ENVIRONMENTAL PROTECTION AGENCY

[ER-FRL-8997-9)

Environmental Impacts Statements; Notice of Availability

Responsible Agency: Office of Federal Activities, General Information (202) 564-1399 or http://www.epa.gov/compliance/nepa/.

Weekly receipt of Environmental Impact Statements

Filed 07/04/2011 Through 07/08/2011

Pursuant to 40 CFR 1506.9.

Notice: In accordance with Section 309(a) of the Clean Air Act, EPA is required to make its comments on EISs issued by other Federal agencies public. Historically, EPA met this mandate by publishing weekly notices of availability of EPA comments, which includes a brief summary of EPA's comment letters, in the Federal Register. Since February 2008, EPA has included its comment letters on EISs on its Web site at: http://www.epa.gov/compliance/nepa/eisdata.html. Including the entire EIS comment letters on the Web site satisfies the Section 309(a) requirement to make EPA's comments on EISs available to the public. Accordingly, on March 31, 2010, EPA discontinued the publication of the notice of availability of EPA comments in the Federal Register.

EIS No. 20110217, Draft EIS, NOAA, 00, 2011 Caribbean Comprehensive Annual Catch Limit (ACL) Amendment for the US Caribbean: Amendment 6 to the Reef Fish Fishery Management Plan of Puerto Rico and the U.S. Virgin Islands; Amendment 5 to the Fishery Management Spiny Lobster Fishery of Puerto Rico and the U.S. Virgin Islands; Amendment 3 to the Fishery Management Plan for the Queen Conch Resources of Puerto Rico and the U.S. Virgin Islands; Amendment 3 to the Fishery Management Plan for Corals and Reef Associated Plants and Invertebrates of Puerto Rico and the U.S. Virgin Islands, Comment Period Ends: 08/29/2011, Contact: Roy E. Crabtree, PhD 727-824-5305.

EIS No. 20110218, Final EIS, BPA, 00, Big Eddy-Knight Transmission Project, Proposal to Construct, Operate, and Maintain a 27-28 mile long 500-Kilovolt Transmission Line using a Combination of Existing BPA and New 150-Foot wide Right-of-Way, Wasco County, OR and Klickitat County, WA, Wait Period Ends: 08/15/2011, Contact: Stacy Mason 503-230-5455.

EIS No. 20110219, Final EIS, FTA, WA, East Link Rail Transit Project, New and Update Information, Proposes to Construct and Operate an Extension of the Light Rail System from downtown Seattle to Mercer Island, Bellevue, and Redmond via Interstate 90, Funding and US Army COE Section 404 and 10 Permits, Seattle, WA, Wait Period Ends: 08/15/2011, Contact: John Witmer 206-220-7950.

EIS No. 20110220, Final EIS, TVA, 00, Natural Resource Plan, To Determine How TVA Will Manage It Natural Resource Over the Next 20 Year, Implementation, AL, GA, KY, MS, NC, TN and VA, Wait Period Ends: 08/15/2011, Contact: Charles P. Nicholson 865-632-3582.

EIS No. 20110221, Final EIS, NOAA, WA, Clark Springs Water Supply Habitat Conservation Plan, Application for Incidental Take Permits, City of Kent, Maple Valley, King County, WA, Wait Period Ends: 08/15/2011, Contact: Kelly Peterson 253-856-5547.

EIS No. 20110222, Final EIS, HUD, CA, West Coast Recycling Group Metal Recycling Facility Project, Proposal to Develop and Operate a Scrap Metal Shredding and Recycling Facility at the Port of West Sacramento, Yolo County,CA, Wait Period Ends: 08/15/2011, Contact: David Tilley 916-617-4645.

EIS No. 20110223, Second Final Supplement, FHWA, WA, Alaskan Way Viaduct Replacement Project, Between S. Royal Brougham Way and Roy Street, To Protect Public Safety and Provide Essential Vehicle Capacity to and through downtown Seattle, Updated Information to 2004 DEIS and 2006 DSEIS, Seattle, WA, Wait Period Ends: 08/15/2011, Contact: Angela Angove 206-805-2832.

EIS No. 20110224, Draft EIS, FWS, TX, Habitat Conservation Plan for Oncor Electric Delivery Facilities, Application for Incidental Take Permit for 11 Federally List Species in 100 Texas Counties, Comment Period Ends: 09/28/2011, Contact: Adam Zerrenner 512-490-0057.

Dated: July 12, 2011.
Cliff Rader,
Acting Director, NEPA Compliance Division, Office of Federal Activities.

[FR Doc. 2011-17865 Filed 7-14-11; 8:45 am]

BILLING CODE 6560-50-P